DEPARTMENT OF ENERGY

Federal Energy Regulatory Commission

[Docket Nos. ER96-1551-008 and ER01-615-005]

Public Service Company of New Mexico; Notice of Filing

October 13, 2004.

Take notice that on October 7, 2004, Public Service Company of New Mexico (PNM) tendered for filing a supplement to its revised generation market power study submitted on August 11, 2004, in Docket Nos. ER96-1551-007 and ER01-615-004. PNM states that the purpose of its filing is to incorporate into its analysis new or more detailed information included in the El Paso Electric Company and Arizona Public Service Company generation market power studies, as well as to correct data and/or calculation errors discovered since PNM submitted its August 11 filing.

PNM states that copies of the filing were served on parties on the official service lists in the above-captioned proceedings.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 28, 2004.

Linda Mitry,
Acting Secretary.

[FR Doc. E4-2935 Filed 10-29-04; 8:45 am]

BILLING CODE 6717-01-P